DEPARTMENT OF JUSTICE

Notice of Lodging of Proposed Consent Decree Under the Clean Air Act

On April 19, 2013, the Department of Justice lodged a proposed consent decree with the United States District Court for the District of Colorado in the lawsuit entitled United States v. CEMEX, Inc., Civil Action No. 1:09-cv-00019-MSK, Docket No. 202-1.

The proposed consent decree between the United States and CEMEX, Inc. settles government claims brought under Sections 113(b) and 167 of the Clean Air Act, 42 U.S.C. 7413(b) and 7477 for injunctive relief and civil penalties for alleged violations of the Act's Prevention of Significant Deterioration requirements, 42 U.S.C. §§ 7470-7479, and the Non-Attainment New Source Review requirements, Sections 171 through 193 of the CAA, 42 U.S.C. §§ 7501-7515, as enforced through Colorado's State Implementation Plan. 42 U.S.C. § 7410. The alleged violations occurred at CEMEX's Portland cement manufacturing operations located in Lyons, Colorado. The Decree requires CEMEX to install and continuously operate Selective Non-Catalytic Reduction technology on its cement kiln to reduce nitrogen oxides emissions to a level established under the “test and set” regime outlined in the Decree. The Decree also requires CEMEX to pay a civil penalty of $1 million.

The publication of this notice opens a period for public comment on the consent decree. Comments should be addressed to the Assistant Attorney General, Environment and Natural Resources Division, and should refer to United States v.CEMEX, Inc., D.J. Ref. No. DJ# 90-5-2-1-09151. All comments must be submitted no later than thirty (30) days after the publication date of this notice. Comments may be submitted either by email or by mail:

To submit comments: | Send them to:
By e-mail | pubcomment-ees.enrd@usdoj.gov.
By mail | Assistant Attorney General U.S. DOJ-ENRD P.O. Box 7611 Washington, D.C. 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ-ENRD, P.O. Box 7611, Washington, DC 20044-7611.

Please enclose a check or money order for $13.00 (25 cents per page reproduction cost) payable to the United States Treasury.

Robert Brook,
Assistant Section Chief, Environmental Enforcement Section, Environment and Natural Resources Division.

[FR Doc. 2013-09687 Filed 4-24-13; 8:45 am]

BILLING CODE 4410-15-P